DEPARTMENT OF DEFENSE

Office of the Secretary

[Docket ID: DoD-2012-OS-0152]

Proposed Collection; Comment Request

AGENCY: Defense Logistics Agency, DoD.

ACTION: Notice.

SUMMARY: In compliance with Section 3506(c)(2)(A) of the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 15, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Logistics Agency, ATTN: Wide Area Workflow (WAWF) Program Management Office (PMO), 8725 John J. Kingman Road, Fort Belvoir, VA 22060-6221.

SUPPLEMENTARY INFORMATION: Title; Associated Form; And OMB Number: Wide Area Work Flow (WAWF); WAWF is not a forms based application but accepts any supporting documentation as attachments; OMB Control Number 0704-XXXX.

Needs And Uses: Wide Area Work Flow (WAWF) is a DoD enterprise, web-based system that allows secure electronic submission, acceptance and procession of invoices and receiving reports in a real-time, paperless environment, resulting in complete transaction visibility, fewer interest penalties and reduced processing time. WAWF provides the Department and its suppliers the single point of entry to generate, capture and process invoice, acceptance and payments related documentation, and data to support the DoD asset visibility, tracking, and payment processes. WAWF also provides the Department with a single point of entry to generate, capture, and process vouchers for miscellaneous payment claims. Information in identifiable form must be collected to ensure that benefits are paid to the correct individual.

Affected Public: Dependents and members of the general public to include Foreign Nationals and vendors providing goods or services to the DoD.

Annual Burden Hours: 23,125.

Number of Respondents: 2,775.

Annual Responses per Respondent: 1 to 50.

Average Burden per Response: 10 minutes.

Frequency: On occasion for individuals; more frequent for vendors.

The purpose of the information collection is to monitor the status of and electronically process invoices, receiving reports and individual claims for payment through the review and validation and approval phases for submission to the Defense Finance and Accounting Service (DFAS) for payment.

Dated: July 14, 2014.
Aaron Siegel,
Alternate OSD Federal Register Liaison Officer, Department of Defense.

[FR Doc. 2014-16838 Filed 7-16-14; 8:45 am]

BILLING CODE 5001-06-P